FEDERAL COMMUNICATIONS COMMISSION

47 CFR Part 90

[PS Docket 13-239, PS Docket 11-60; DA 16-463]

Public Safety and Homeland Security Bureau Seeks Comment on Wireless Carriers' Proposal To Increase Resilience and Enhance Information Sharing During Disasters

AGENCY: Federal Communications Commission.

ACTION: Proposed rule.

SUMMARY: This document seeks comment on the ex parte proposal made by AT&T, Sprint, T-Mobile, US Cellular, and Verizon, together with CTIA (collectively, “the carriers”), in which they announce a “Wireless Resiliency Cooperative Framework” described as “a voluntary initiative that will enhance coordination and communication to advance wireless service continuity and information sharing during and after emergencies and disasters.”

DATES: Comments are due on or before May 31, 2016.

ADDRESSES: See the SUPPLEMENTARY INFORMATION section of this document.

FOR FURTHER INFORMATION CONTACT: Renee Roland, Special Counsel, Public Safety and Homeland Security Bureau, at (202) 418-2352, or Lauren Kravetz, Chief of Staff, Public Safety and Homeland Security Bureau, at (202) 418-7944.

SUPPLEMENTARY INFORMATION: This is a summary of the Commission's document, DA 16-463, released on April 28, 2016. The document is available for download at http://fjallfoss.fcc.gov/edocs_public/. The complete text of this document also available for inspection and copying during normal business hours in the FCC Reference Information Center, Portals II, 445 12th Street SW., Room CY-A257, Washington, DC 20554. To request materials in accessible formats for people with disabilities (Braille, large print, electronic files, audio format), send an email to fcc504@fcc.gov or call the Consumer and Governmental Affairs Bureau at (202) 418-0530 (voice), (202) 418-0432 (tty).

1. On April 27, 2016, the carriers filed an ex parte letter detailing a five prong approach to enhance industry coordination to “facilitate greater network resiliency and faster restoration of service” which they assert will “obviate the need for legislative action or inflexible rules that could have unintended consequences.” Specifically, the five prongs include: (1) Providing for reasonable roaming under disaster arrangements when technically feasible; (2) fostering mutual aid during emergencies; (3) enhancing municipal preparedness and restoration; (4) increasing consumer readiness and preparation; and (5) improving public awareness and stakeholder communications on service and restoration status. Under each prong, the carriers provide specific actions that they will undertake designed to “enhance coordination among wireless carriers and all key stakeholders, improving information sharing and making wireless network resiliency more robust.”

2. In its 2013 Notice of Proposed Rulemaking in this docket (Resiliency Notice), the Commission sought comment on, inter alia, the means to enable greater resiliency and consumer transparency with respect to the performance of wireless communications networks during disasters, including seeking comment on mandatory disclosures or the use of voluntary industry measures. 78 FR 69018, November 18, 2013. In addition, since the Resiliency Notice was issued and the record compiled, the Commission's Public Safety and Homeland Security Bureau has engaged in a number of meetings with a variety of stakeholders to understand the data that different segments value in evaluating the overall resiliency of wireless networks and outage impacts, as well as other factors in developing more resilient wireless networks. Accordingly, the Commission seeks comment on the carriers' “Wireless Resiliency Cooperative Framework” in light of the aims of the Resiliency Notice and the associated record.

3. Interested parties may file comments until fifteen days after the publication of this document in the Federal Register. All pleadings are to reference PS Dockets 13-239 and 11-60. This proceeding is a “permit-but-disclose” proceeding in accordance with the Commission's ex parte rules.¹ Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with section 1.1206(b). In proceedings governed by section 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

¹ Id. para.74.

4. Comments may be filed using the Commission's Electronic Comment Filing System (ECFS). See Electronic Filing of Documents in Rulemaking Proceedings, 63 FR 24121 (1998).

• Electronic Filers: Comments may be filed electronically using the Internet by accessing the ECFS: http://fjallfoss.fcc.gov/ecfs2/.

• Paper Filers: Parties that choose to file by paper must file an original and one copy of each filing. If more than one docket or rulemaking number appears in the caption of this proceeding, filers must submit two additional copies for each additional docket or rulemaking number.

5. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington, DC 20554.

6. To request materials in accessible formats for people with disabilities (Braille, large print, electronic files, audio format), send an email to fcc504@fcc.gov or call the Consumer and Governmental Affairs Bureau at (202) 418-0530 (voice), (202) 418-0432 (tty).

7. For further information, contact: Renee Roland, Special Counsel, Public Safety and Homeland Security Bureau, at (202) 418-2352, renee.roland@fcc.gov, or Lauren Kravetz, Chief of Staff, Public Safety and Homeland Security Bureau, at (202) 418-7944, lauren.kravetz@fcc.gov.

Federal Communications Commission.
Lisa M. Fowlkes,
Deputy Bureau Chief, Public Safety and Homeland Security Bureau.

[FR Doc. 2016-11233 Filed 5-12-16; 8:45 am]

BILLING CODE 6712-01-P